DEPARTMENT OF COMMERCE

International Trade Administration

(A-533-820)

Certain Hot-Rolled Carbon Steel Flat Products from India: Notice of Extension of Time Limit for Final Results of Antidumping Duty Administrative Review

AGENCY: Import Administration, International Trade Administration, Department of Commerce.

EFFECTIVE DATE: May 11, 2006.

FOR FURTHER INFORMATION CONTACT: Kavita Mohan or Jeff Pedersen, AD/CVD Operations, Office 4, Import Administration, International Trade Administration, U.S. Department of Commerce, 14th Street and Constitution Avenue, NW, Washington, DC 20230; telephone: (202) 482-3542 or (202) 482-2769, respectively.

SUPPLEMENTARY INFORMATION:

Background

On January 31, 2005, the Department of Commerce (the Department) published a notice of initiation of administrative review of the antidumping duty order on certain hot-rolled carbon steel flat products (HRS) from India covering shipments of HRS by Essar Steel Limited (Essar) to the United States for the period December 1, 2003, through November 30, 2004. See Initiation of Antidumping and Countervailing Duty Administrative Reviews and Request for Revocation in Part, 70 FR 4818 (January 31, 2005). On January 12, 2006, the Department published in the Federal Register the preliminary results of review. See Certain Hot-Rolled Carbon Steel Flat Products From India: Preliminary Results of Antidumping Duty Administrative Review, 71 FR 2018 (January 12, 2006). The final results of review are currently due no later than May 12, 2006.

Statutory Time Limits

Section 751(a)(3)(A) of the Tariff Act of 1930, as amended (the Act), requires the Department to make a preliminary determination in an administrative review within 245 days after the last day of the anniversary month of an order for which a review is requested and a final determination within 120 days after the date on which the preliminary determination is published. However, if it is not practicable to complete the review within these time periods, section 751(a)(3)(A) of the Act allows the Department to extend these deadlines to a maximum of 365 days and 180 days (or 300 days if the Department does not extend the time limit for the preliminary determination), respectively.

Extension of Time Limit for Final Results of Review

We have determined that it is not practicable to complete the final results of this review within the original time limit because the Department needs additional time to consider a complex issue relating to the U.S. price adjustment for countervailing duties imposed to offset export subsidies. Therefore, the Department is extending the time limit for completion of the final results by 60 days. We intend to issue the final results of review no later than July 11, 2006.

This notice is issued and published in accordance with sections 751(a)(3)(A) and 777(i) of the Act.

Dated: May 5, 2006.
Stephen J. Claeys,
Deputy Assistant Secretary for Import Administration.

[FR Doc. E6-7227 Filed 5-10-06; 8:45 am]

BILLING CODE 3510-DS-S